DEPARTMENT OF HEALTH AND HUMAN SERVICES

Health Resources and Services Administration

Agency Information Collection Activities: Submission for OMB Review; Comment Request

Periodically, the Health Resources and Services Administration (HRSA) publishes abstracts of information collection requests under review by the Office of Management and Budget, in compliance with the Paperwork Reduction Act of 1995 (44 U.S.C. Chapter 35). To request a copy of the clearance requests submitted to OMB for review, call the HRSA Reports Clearance Office on (301)-443-1129.

The following request has been submitted to the Office of Management and Budget for review under the Paperwork Reduction Act of 1995:

Proposed Project: Health Care for the Homeless Program User/Visit Surveys—NEW

The Bureau of Primary Health Care (BPHC) of HRSA is planning to conduct User/Visit Surveys of the Health Care for Homeless Program (HCHP). The purpose of this study is to conduct nationally representative surveys, which have the following components: (1) A personal interview survey of HCHP site users; and (2) a record-based study of visits to HCHP sites.

The HCHP is the Federal program with the sole responsibility for addressing the critical primary health care needs of homeless individuals. The HCHP is administered by the BPHC. The BPHC is interested in knowing more about the general and specific characteristics of the HCHP users and their visits to the HCHP sites. As a consequence, a personal interview survey (User Survey) will be administered to a nationally representative sample of HCHP users and a representative sample of medical visits of HCHP sites (Visit Survey) will be examined as well.

These surveys are designed and intended to be primary sources of information on the health and visits of the HCHP users. The information will provide policy makers with a better understanding of the services that HCHP users are receiving at HCHP sites and how well these sites are meeting the needs of HCHP users.

Data from the surveys will provide quantitative information on the homeless population served by the HCHP, specifically: (a) Sociodemographic characteristics, (b) health care access and utilization, (c) health status and morbidity, (d) health care experiences and risk behaviors, (e) content of medical encounters, (f) preventive care, and (g) and living conditions. These surveys will provide data useful to the HCHP and will enable HRSA to provide data required by Congress under the Government Performance and Results Act of 1993.

The estimated burden on respondents and HCHP site staff is as follows:

Form | Number of respondents | Responses per respondent | Total response | Hours per response | Total burden hour
Grantee Recruitment | 30 grantees | 1 | 30 | 1 | 30
Grantee Sampling Methods | 30 grantees | 1 | 30 | 3 | 90
User Survey | 1,020 users | 1 | 1,020 | 1 | 1,020
Visit Survey | 1,020 visits | 1 | 1,020 | .25 | 255
Total | 2,070 |  | 2,070 |  | 1,395

Written comments and recommendations concerning the proposed information collection should be sent within 30 days of this notice to: Allison Eyte, Human Resources and Housing Branch, Office of Management and Budget, New Executive Office Building, Room 10235, Washington, DC 20503, Fax number 202-395-6974.

Dated: May 30, 2003.
Jane M. Harrison,
Director, Division of Policy Review and Coordination.

[FR Doc. 03-14218 Filed 6-4-03; 8:45 am]

BILLING CODE 4165-15-P